DEPARTMENT OF ENERGY

Federal Energy Regulatory Commission

[Docket No. EL06-89-000]

Californians for Renewable Energy, Inc. Complainants v. California Independent System Operator Respondent; Notice of Complaint

July 26, 2006.

Take notice that on July 24, 2006, Californians for Renewable Energy, Inc. (CARE) filed a complaint against the California Independent System Operator Corporation (CAISO). CARE alleges that the CAISO provided testimony before the California Energy Commission in reference to a power plant siting application by the City and County of San Francisco, without complying with CAISO's articles of incorporation.

CARE asks the Commission to order the CAISO to rescind its findings and conclusions concerning the power plant application until it can issue conclusions without exceeding its statutory mandate as described in the CAISO's articles of incorporation.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 14, 2006.

Magalie R. Salas,
Secretary.

[FR Doc. E6-12375 Filed 8-1-06; 8:45 am]

BILLING CODE 6717-01-P